DEPARTMENT OF COMMERCE

International Trade Administration

[A-201-843]

Prestressed Concrete Steel Rail Tie Wire From Mexico: Rescission of Antidumping Duty Administrative Review; 2015-2016

AGENCY: Enforcement and Compliance, International Trade Administration, Department of Commerce.

SUMMARY: The Department of Commerce (the Department) is rescinding the administrative review of the antidumping duty order on prestressed concrete steel rail tie wire from Mexico for the period June 1, 2015, through May 31, 2016.

DATES: Effective December 5, 2016.

FOR FURTHER INFORMATION CONTACT: Aqmar Rahman or Jesus Saenz, AD/CVD Operations, Office VIII, Enforcement and Compliance, International Trade Administration, U.S. Department of Commerce, 1401 Constitution Avenue NW., Washington, DC 20230; telephone: (202) 482-0768 and (202) 482-8184, respectively.

SUPPLEMENTARY INFORMATION:

Background

On June 2, 2016, the Department published in the Federal Register a notice of “Opportunity to Request Administrative Review” of the antidumping duty order on prestressed concrete steel rail tie wire from Mexico for the period of June 1, 2015, through May 31, 2016.¹

¹ See Antidumping or Countervailing Duty Order, Finding, or Suspended Investigation; Opportunity to Request Administrative Review, 81 FR 35301 (June 2, 2016).

On June 20, 2016, in accordance with section 751(a) of the Tariff Act of 1930, as amended (the Act), and 19 CFR 351.213(b), the Department received a timely request from Aceros Camesa, S.A. de C.V. (Camesa), a Mexican producer and exporter of the subject merchandise, to conduct an administrative review.² Camesa was the only party to request an administrative review in this segment of the proceeding.

² See Camesa's letter, “Prestressed Concrete Steel Rail Tie Wire from Mexico; Request for Administrative Review,” dated June 20, 2016.

On August 11, 2016, the Department published in the Federal Register a notice of initiation of an administrative review of the antidumping duty order on prestressed concrete steel rail tie wire from Mexico.³ On November 7, 2016, Camesa timely withdrew its request for review.⁴

³ See Initiation of Antidumping and Countervailing Duty Administrative Reviews, 81 FR 53121 (August 11, 2016).

⁴ See Camesa's letter, “Prestressed Concrete Steel Rail Tie Wire from Mexico: Withdrawal of Camesa's Administrative Review Request,” dated November 7, 2016.

Rescission of Review

Pursuant to 19 CFR 351.213(d)(1), the Department will rescind an administrative review, in whole or in part, if a party that requested a review withdraws the request within 90 days of the date of publication of the notice of initiation of the requested review. Camesa timely withdrew its review request before the 90-day deadline, and no other party requested an administrative review of the antidumping duty order. Therefore, in response to the timely withdrawal of the review request, the Department is rescinding in its entirety the administrative review of the antidumping duty order on prestressed concrete steel rail tie wire from Mexico covering the period June 1, 2015, through May 31, 2016.

Assessment

The Department will instruct U.S. Customs and Border Protection (CBP) to assess antidumping duties on all appropriate entries of prestressed concrete steel rail tie wire from Mexico. Antidumping duties shall be assessed at rates equal to the cash deposit of estimated antidumping duties required at the time of entry, or withdrawal from warehouse, for consumption, in accordance with 19 CFR 351.212(c)(1)(i). The Department intends to issue appropriate assessment instructions directly to CBP 41 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 751 of the Act and 19 CFR 351.213(d)(4).

Dated: November 30, 2016.
Christian Marsh,
Deputy Assistant Secretary for Antidumping and Countervailing Duty Operations.

[FR Doc. 2016-29073 Filed 12-2-16; 8:45 am]

BILLING CODE 3510-DS-P